FEDERAL MARITIME COMMISSION

[Docket No. 01-08]

The Impact of the Government Paperwork Elimination Act and the Electronic Signatures in Global and National Commerce Act

August 14, 2001.

AGENCY: Federal Maritime Commission.

ACTION: Notice of Inquiry; Extension of Time.

SUMMARY: The Federal Maritime Commission (“Commission”) by notice published July 18, 2001, 66 FR 37468, initiated an inquiry to solicit information and comments concerning the impact of the Government Paperwork Elimination Act and the Electronic Signatures in Global and National Commerce Act on all sectors of the U.S. ocean shipping industry. Upon request of an interested party, the Commission has determined to enlarge the time for comment on the inquiry.

DATES: Comments due on or before September 17, 2001.

ADDRESS COMMENTS TO: Bryant L. VanBrakle, Secretary, Federal Maritime Commission, 800 North Capitol St., NW., Room 1046, Washington, DC 20573-0001, (202) 523-5725, E-mail: secretary@fmc.gov

FOR FURTHER INFORMATION CONTACT: Florence A. Carr, Deputy Executive Director, Office of the Executive Director, Federal Maritime Commission, 800 North Capitol Street, NW., Washington, DC 20573-0001, (202) 523-5800, E-mail: florence@fmc.gov

By the Commission.
Bryant L. VanBrakle,
Secretary.

[FR Doc. 01-20754 Filed 8-16-01; 8:45 am]

BILLING CODE 6730-01-P